DEPARTMENT OF COMMERCE

International Trade Administration

[A-570-133]

Certain Metal Lockers and Parts Thereof From the People's Republic of China: Final Results of Antidumping Duty Administrative Review and Final Determination of No Shipments; 2022-2023; Correction

AGENCY: Enforcement and Compliance, International Trade Administration, Department of Commerce.

ACTION: Notice; correction.

SUMMARY: The U.S. Department of Commerce (Commerce) published notice in the Federal Register of April 16, 2025, in which Commerce announced the final results of the 2022-2023 administrative review of the antidumping duty (AD) order on certain metal lockers and parts thereof (metal lockers) from the People's Republic of China (China). This notice incorrectly stated the cash deposit rate applicable to the China-wide entity.

FOR FURTHER INFORMATION CONTACT: Matthew Palmer, AD/CVD Operations, Office III, Enforcement and Compliance, International Trade Administration, U.S. Department of Commerce, 1401 Constitution Avenue NW, Washington, DC 20230; telephone: (202) 482-1678.

SUPPLEMENTARY INFORMATION:

Background

On April 16, 2025, Commerce published in the Federal Register the final results of the 2022-2023 administrative review of the AD order on metal lockers from China.¹ We incorrectly stated the cash deposit rate for the China-wide entity as 322.25 percent, rather than the China-wide entity's existing cash deposit rate of 311.71 percent.² Thus, we intend to issue liquidation instructions that reflect the correct China-wide rate.

¹ See Certain Metal Lockers and Parts Thereof from the People's Republic of China: Final Results of Antidumping Duty Administrative Review and Final Determination of No Shipments; 2022-2023, 90 FR 15953 (April 16, 2025).

² See Certain Metal Lockers and Parts Thereof from the People's Republic of China: Antidumping and Countervailing Duty Orders, 86 FR 46826 (August 20, 2021).

Correction

In the Federal Register of April 16, 2025, in FR Doc 2025-06448, on page 15954, in the second column, correct the first paragraph of the “China-Wide Entity,” section to state the correct cash deposit rate of 311.71 percent for the China-wide entity.

Notification to Interested Parties

This notice is issued and published in accordance with section 751(c) of the Tariff Act of 1930, as amended, and 19 CFR 351.221(b)(5).

Dated: June 5, 2025.
Christopher Abbott,
Deputy Assistant Secretary for Policy and Negotiations, performing the non-exclusive functions and duties of the Assistant Secretary for Enforcement and Compliance.

[FR Doc. 2025-10575 Filed 6-10-25; 8:45 am]

BILLING CODE 3510-DS-P